DEPARTMENT OF COMMERCE

[Docket No. 18-2006]

Foreign-Trade Zones Board

Foreign-Trade Zone 47—Boone County, KY; Withdrawal of Application for Subzone Status adidas Sales, Inc. (Apparel, Footwear, and Sporting Equipment)

Notice is hereby given of the withdrawal of the application requesting special-purpose subzone status for the warehousing and distribution facilities of adidas Sales, Inc. The application was filed on April 28, 2006 (71 FR 26925, 5-9-2006).

The withdrawal was requested because of changed circumstances, and the case has been closed without prejudice.

Dated: June 19, 2007.
Andrew McGilvray,
Executive Secretary.

[FR Doc. E7-12269 Filed 6-22-07; 8:45 am]

BILLING CODE 3510-DS-P